DEPARTMENT OF ENERGY

Federal Energy Regulatory Commission

[Docket No. CP06-449-000]

Kinder Morgan Louisiana Pipeline LLC; Notice of Availability of the Draft Environmental Impact Statement for the Proposed Kinder Morgan Louisiana Pipeline Project

January 26, 2007.

The staff of the Federal Energy Regulatory Commission (FERC or Commission) has prepared a draft Environmental Impact Statement (EIS) on the natural gas pipeline facilities proposed by Kinder Morgan Louisiana Pipeline LLC (KMLP) in the above-referenced docket.

The draft EIS was prepared to satisfy the requirements of the National Environmental Policy Act. The staff concludes that approval of the proposed project with the appropriate mitigating measures as recommended, would have limited adverse environmental impact. The draft EIS also evaluates alternatives to the proposal, including system alternatives, major route alternatives, and route variations, and requests comments on them.

The draft EIS addresses the potential environmental effects of the construction and operation of the following facilities in southwest Louisiana:

• Leg 1—132 miles of 42-inch-diameter pipeline beginning within the Sabine Pass Liquefied Natural Gas (LNG) Terminal in Cameron Parish and extending northward and easterly through Calcasieu, Jefferson Davis, and Acadia Parishes until it connects with an existing Columbia Gulf Transmission interstate pipeline in Evangeline Parish, Louisiana.

• Leg 2—1.22 miles of 36-inch-diameter pipeline beginning within the Sabine Pass LNG Terminal and extending to a point of interconnection with the existing Natural Gas Pipeline Company of America pipeline just south of State Highway 82 in Cameron Parish, Louisiana.

• The Florida Gas Transmission (FGT) Lateral—2.3 miles of 24-inch-diameter pipeline extending eastwardly from Leg 1 at approximately milepost 110.60 until it connects with the existing FGT Company's Compressor Station No. 7 near the town of Williams in Acadia Parish, Louisiana.

• Associated mainline block valves, metering, tie-in, and pigging facilities.

The purpose of the proposed facilities is to deliver at least 3,395,000 decatherms (Dth) per day of regasified natural gas from the Sabine Pass LNG Terminal into the national pipeline and underground storage grid.

Specific Comment Request

The staff has identified and evaluated in detail two system alternatives, four major route alternatives, and 15 route variations. The staff concludes that the proposed system and route are environmentally least damaging, and therefore prefers the proposed system and route. Any route variation considered to be an environmental improvement has been incorporated into the proposed route. Area residents, local or state governments, intervenors, Kinder Morgan, and other interested parties are asked to provide specific comments on our analysis of alternatives. Comments should also address any effect on project timing and related cost/benefits.

Comment Procedures and Public Meetings

Any person wishing to comment on the draft EIS may do so. To ensure consideration prior to a Commission decision on the proposal, it is important that we receive your comments before the date specified below.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

If you are filing written comments, please carefully follow these instructions to ensure that your comments are received in time and properly recorded:

• Send an original and two copies of your comments to: Magalie R. Salas, Secretary, Federal Energy Regulatory Commission, 888 First Street, NE., Room 1A, Washington, DC 20426.

• Label one copy of your comments for the attention of Gas Branch 2, DG2E;

• Reference Docket No. CP06-449-000 on the original and both copies; and

• Mail your comments so that they will be received in Washington, DC on or before March 19, 2007.

We will announce in a future notice, the location and time of two local public meetings to receive comments on the draft EIS. These meetings will be posted on the Commission's calendar located at http://www.ferc.gov/EventCalendar/EventsList.aspx along with other related information.

After these comments are reviewed, any significant new issues are investigated, and modifications are made to the draft EIS, a final EIS will be published and distributed by the staff. The final EIS will contain the staff's responses to timely comments filed on the draft EIS.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426, (202) 502-8371.

A limited number of copies are available from the Public Reference Room identified above. In addition, copies of the draft EIS have been mailed to federal, state and local agencies, public interest groups, individuals who have requested the draft EIS, newspapers, and parties to this proceeding.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Magalie R. Salas,
Secretary.

[FR Doc. E7-1669 Filed 2-1-07; 8:45 am]

BILLING CODE 6717-01-P